SMALL BUSINESS ADMINISTRATION

[Declaration of Disaster #3318]

State of Mississippi; (Amendment #2)

In accordance with a notice received from the Federal Emergency Management Agency, dated March 15, 2001, the above-numbered Declaration is hereby amended to include Amite, Forrest, Franklin, Jones, Lamar, Lincoln, Marion, Neshoba, Pearl River, Perry, Pike, Scott, Tate, Walthall and Wilkinson counties in the State of Mississippi as disaster areas due to damages caused by severe storms and tornadoes. This notice also establishes the incident period for this disaster as beginning on February 16, 2001 and closing March 15, 2001.

In addition, applications for economic injury loans from small businesses located in the following contiguous counties may be filed until the specified date at the previously designated location: Adams, Copiah, Covington, DeSoto, George, Greene, Hancock, Harrison, Jasper, Jefferson, Jefferson Davis, Lauderdale, Lawrence, Newton, Smith, Stone and Wayne in the State of Mississippi; Concordia, East Feliciana, St. Helena, St. Tammany, Tangipahoa, Washington and West Feliciana in the State of Louisiana. Any counties contiguous to the above named primary counties and not listed here have been previously declared.

All other information remains the same, i.e., the deadline for filing applications for physical damage is April 24, 2001 and for economic injury the deadline is November 23, 2001.

(Catalog of Federal Domestic Assistance Program Nos. 59002 and 59008)

Dated: March 16, 2001.
Herbert L. Mitchell,
Associate Administrator for Disaster Assistance.

[FR Doc. 01-7169 Filed 3-22-01; 8:45 am]

BILLING CODE 8025-01-P